DEPARTMENT OF HOMELAND SECURITY

Federal Emergency Management Agency

[Docket ID FEMA-2012-0003; Internal Agency Docket No. FEMA-B-1273]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information Exchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
California: Ventura | City of Moorpark (12-09-0985P) | The Honorable Janice Parvin, Mayor, City of Moorpark, 799 Moorpark Avenue, Moorpark, CA 93021 | 18 High Street, Moorpark, CA 93021 | http://www.r9map.org/Docs/12-09-0985P-060712-102IAC.pdf | July 18, 2012 | 060712
Idaho:
Ada | City of Boise (11-10-1081P) | The Honorable David H. Biester, Mayor, City of Boise, 150 North Capitol Boulevard, Boise, ID 83702 | 150 North Capitol Boulevard, Boise, ID 83702 | http://www.starr-team.com/starr/LOMR/Pages/RegionX.aspx | June 15, 2012 | 160002
Ada | Unincorporated areas of Ada County (11-10-1081P) | The Honorable Rick Yzaguirre, Chairman, Ada County Board of Commissioners, 200 West Front Street, 3rd floor, Boise, ID 83702 | 200 West Front Street, 3rd Floor, Boise, ID 83702 | http://www.starr-team.com/starr/LOMR/Pages/RegionX.aspx | June 15, 2012 | 160001
Blaine | City of Hailey (12-10-0384P) | The Honorable Fritz Haemmerle, Mayor, City of Hailey, 115 Main Street South, Suite H, Hailey, ID 83333 | 115 Main Street South, Suite H, Hailey, ID 83333 | http://www.starr-team.com/starr/LOMR/Pages/RegionX.aspx | July 5, 2012 | 160022
Illinois:
Effingham | City of Effingham (11-05-5866P) | The Honorable Merv Gillenwater, Mayor, City of Effingham, 201 East Jefferson Avenue, Effingham, IL 62401 | Effingham City Hall, 201 East Jefferson Avenue, Effingham, IL 62401 | http://www.starr-team.com/starr/LOMR/Pages/RegionV.aspx | July 24, 2012 | 170229
Kendall | City of Sandwich (12-05-0175P) | The Honorable Tom Thomas, Mayor, City of Sandwich, 144 East Railroad Street, Sandwich, IL 60548 | 144 East Railroad Street, Sandwich, IL 60548 | http://www.starr-team.com/starr/LOMR/Pages/RegionV.aspx | July 13, 2012 | 170188
Kendall | Unincorporated areas of Kendall County (12-05-0175) | The Honorable John Purcell, Chairman, Kendall County Board, 111 West Fox Street, Yorkville, IL 60560 | Kendall County Zoning and Planning Commission, 111 West Fox Street, Yorkville, IL 60560 | http://www.starr-team.com/starr/LOMR/Pages/RegionV.aspx | July 13, 2012 | 170341
McLean | City of Bloomington (11-05-3513P) | The Honorable Stephen F. Stockton, Mayor, City of Bloomington, Bloomington City Hall, 109 East Olive Street, Bloomington, IL 61701 | Bloomington Engineering Department, 109 East Olive Street, Bloomington, IL 61701 | http://www.starr-team.com/starr/LOMR/Pages/RegionV.aspx | July 13, 2012 | 170490
McLean | Unincorporated areas of McLean County (11-05-3513P) | The Honorable Matt Sorenson, Chairman, McLean County Board, 115 East Washington Street, Room 401, Bloomington, IL 61701 | McLean County Building and Zoning Department, 115 East Washington Street, Room M102, Bloomington, IL 61701 | http://www.starr-team.com/starr/LOMR/Pages/RegionV.aspx | July 13, 2012 | 170931
Tazewell | City of Washington (11-05-7882P) | The Honorable Gary W. Manier, Mayor, City of Washington, 301 Walnut Street, Washington, IL 61571 | 301 Walnut Street, Washington, IL 61571 | http://www.starr-team.com/starr/LOMR/Pages/RegionV.aspx | July 12, 2012 | 170655
Will | Unincorporated areas of Will County (11-05-6606P) | The Honorable Lawrence M. Walsh, Will County Executive, 302 North Chicago Street, Joliet, IL 60432 | 58 East Clinton Street, Suite 500, Joliet, IL 60432 | http://www.starr-team.com/starr/LOMR/Pages/RegionV.aspx | June 8, 2012 | 170695
Will | Village of Plainfield (11-05-6606P) | The Honorable Michael P. Collins, President, Village of Plainfield, 24401 West Lockport Street, Plainfield, IL 60544 | 24401 West Lockport Street, Plainfield, IL 60544 | http://www.starr-team.com/starr/LOMR/Pages/RegionV.aspx | June 8, 2012 | 170771
Will | Village of Romeoville (11-05-0953P) | The Honorable John Noak, Mayor, Village of Romeoville, Romeoville Village Hall, 1050 West Romeo Road, Romeoville, IL 60446 | Romeoville Village Hall, 1050 West Romeo Road, Romeoville, IL 60446 | http://www.starr-team.com/starr/LOMR/Pages/RegionV.aspx | July 20, 2012 | 170711
Iowa: Black Hawk | City of Cedar Falls (11-07-1543P) | The Honorable Jon Crews, Mayor, City of Cedar Falls, 220 Clay Street, Cedar Falls, IA 50613 | 220 Clay Street, Cedar Falls, IA 50613 | http://www.starr-team.com/starr/LOMR/Pages/RegionVII.aspx | June 8, 2012 | 190017
Kansas:
McPherson | City of McPherson (12-07-0044P) | The Honorable Thomas A. Brown, Mayor, City of McPherson, 400 East Kansas Avenue, McPherson, KS 67460 | 400 East Kansas Avenue, McPherson, KS 67460 | http://www.starr-team.com/starr/LOMR/Pages/RegionVII.aspx | June 27, 2012 | 200217
Sedgwick | City of Wichita (11-07-2738P) | The Honorable Carl Brewer, Mayor, City of Wichita, 455 North Main Street, Wichita, KS 67202 | 455 North Main Street, Wichita, KS 67202 | http://www.starr-team.com/starr/LOMR/Pages/RegionVII.aspx | June 19, 2012 | 200328
Sedgwick | Unincorporated areas of Sedgwick County (11-07-2738P) | The Honorable Tim R. Norton, Chairman, Sedgwick County Board of Commissioners, 525 North Main Street, Suite 320, Wichita, KS 67203 | 1144 South Seneca Street, Wichita, KS 67213 | http://www.starr-team.com/starr/LOMR/Pages/RegionVII.aspx | June 19, 2012 | 200321
Maine: Lincoln | Town of Southport (11-01-1247P) | The Honorable Gerald Gamage, Town of Southport Selectman, 361 Hendricks Hill Road, Southport, ME 04576 | 361 Hendricks Hill Road, Southport, ME 04576 | http://www.starr-team.com/starr/LOMR/Pages/RegionI.aspx | June 8, 2012 | 230221
Minnesota: Rice | City of Faribault (12-05-1808P) | The Honorable John Jasinski, Mayor, City of Faribault, 208 1st Avenue Northwest, Fairbault, MN 55021 | 208 1st Avenue, Northwest, Faribault, MN 55021 | http://www.starr-team.com/starr/LOMR/Pages/RegionV.aspx | July 6, 2012 | 270404
Missouri:
Jackson | City of Independence (11-07-2613P) | The Honorable Don B. Remial, Mayor, City of Independence, 111 East Maple Avenue, Independence, MO 64050 | 111 East Maple, Independence, MO 64050 | http://www.starr-team.com/starr/LOMR/Pages/RegionVII.aspx | July 13, 2012 | 290172
St. Charles | City of Chesterfield (11-07-3427P) | The Honorable Bruce Geiger, Mayor, City of Chesterfield, 690 Chesterfield Parkway West, Chesterfield, MO 63017 | 690 Chesterfield Parkway West, Chesterfield, MO 63017 | http://www.starr-team.com/starr/LOMR/Pages/RegionVII.aspx | July 6, 2012 | 290896
St. Charles | Unincorporated areas of St. Charles County (11-07-3427P) | The Honorable Steve Ehlmann, St. Charles County Executive, 100 North 3rd Street, St. Charles, MO 63301 | 300 North 2nd Street, St. Charles, MO 63301 | http://www.starr-team.com/starr/LOMR/Pages/RegionVII.aspx | July 6, 2012 | 290315
St. Louis | Unincorporated areas of St. Louis County (11-07-2794P) | The Honorable Charlie A. Dooley, St. Louis County Executive, St. Louis County Government Center, 41 South Central Avenue, Clayton, MO 63105 | 41 South Central Avenue, Clayton, MO 63105 | http://www.starr-team.com/starr/LOMR/Pages/RegionVII.aspx | July 17, 2012 | 290327
Ohio:
Clinton | Village of Sabina (12-05-0889P) | The Honorable Dean Carnahan, Mayor, Village of Sabina, 99 North Howard Street, Sabina, OH 45169 | 99 North Howard Street, Sabina, OH 45169 | http://www.starr-team.com/starr/LOMR/Pages/RegionV.aspx | May 3, 2012 | 390627
Cuyahoga | City of Beachwood (12-05-2285P) | The Honorable Merle S. Gorden, Mayor, City of Beachwood, 25325 Fairmont Boulevard, Beachwood, OH 44122 | 25325 Fairmont Boulevard, Beachwood, OH 44122 | http://www.starr-team.com/starr/LOMR/Pages/RegionV.aspx | June 29, 2012 | 390094
Washington: District of Columbia | District of Columbia (12-03-0808P) | The Honorable Vincent C. Gray, Mayor, District of Columbia, John A. Wilson Building, 1350 Pennsylvania Avenue Northwest, Washington, DC 20004 | 1200 1st Street Northeast, 5th Floor, Washington, DC 20002 | https://www.rampp-team.com/lomrs.htm | July 20, 2012 | 110001
Wisconsin:
Racine | City of Burlington (11-05-2911P) | The Honorable Robert Miller, Mayor, City of Burlington, 300 North Pine Street, Burlington, WI 53105 | 300 North Pine Street, Burlington, WI 53105 | http://www.starr-team.com/starr/LOMR/Pages/RegionV.aspx | June 8, 2012 | 550348
Racine | Unincorporated areas of Racine County (11-05-2911P) | The Honorable James A. Ladwig, Racine County Executive, 730 Wisconsin Avenue, Racine, WI 53403 | 14200 Washington Avenue, Sturtevant, WI 53177 | http://www.starr-team.com/starr/LOMR/Pages/RegionV.aspx | June 8, 2012 | 550347
Rock | City of Evansville (12-05-1647P) | The Honorable Sandy Decker, Mayor, City of Evansville, 31 South Madison Street, Evansville, WI 53536 | 31 South Madison Street, Evansville, WI 53536 | http://www.starr-team.com/starr/LOMR/Pages/RegionV.aspx | July 11, 2012 | 550366
Rock | Unincorporated areas of Rock County (12-05-1647P) | The Honorable J. Russell Podzilni, Chair, Rock County Board of Supervisors, 51 South Main Street, Janesville, WI 53545 | 51 South Main Street, Janesville, WI 53545 | http://www.starr-team.com/starr/LOMR/Pages/RegionV.aspx | July 11, 2012 | 550363
Walworth | City of Lake Geneva (11-05-4839P) | The Honorable Jim Connors, Mayor, City of Lake Geneva, 626 Geneva Street, Lake Geneva, WI 53147 | 626 Geneva Street, Lake Geneva, WI 53147 | http://www.starr-team.com/starr/LOMR/Pages/RegionV.aspx | June 4, 2012 | 550466
Walworth | Unincorporated areas of Walworth County (11-05-4839P) | The Honorable David Bretl, Walworth County Administrator, 100 West Walworth Street, Elkhorn, WI 53121 | 100 West Walworth Street, Elkhorn, WI 53121 | http://www.starr-team.com/starr/LOMR/Pages/RegionV.aspx | June 4, 2012 | 550462
Washington | Unincorporated areas of Washington County (11-05-6560P) | The Herbert J. Tennies, Chair, Washington County Board, 432 East Washington Street, Suite 3029, West Bend, WI 53095 | 333 East Washington Street, Suite 2300, West Bend, WI 53095 | http://www.starr-team.com/starr/LOMR/Pages/RegionV.aspx | June 8, 2012 | 550471

(Catalog of Federal Domestic Assistance No. 97.022, “Flood Insurance.”)

Dated: November 14, 2012.
James A. Walke,
Acting Deputy Associate Administrator for Mitigation, Department of Homeland Security, Federal Emergency Management Agency.

[FR Doc. 2012-29256 Filed 12-3-12; 8:45 am]

BILLING CODE 9110-12-P